DEPARTMENT OF HOMELAND SECURITY

Transportation Security Administration

49 CFR Part 1548

[Docket No. TSA-2004-19515; Amendment Nos. 1548-2]

RIN 1652-AA23

Air Cargo Security Requirements; Correction

AGENCY: Transportation Security Administration (TSA), DHS.

ACTION: Final rule; correction.

SUMMARY: This document makes a correction to the final rule published in the Federal Register on May 26, 2006. That rule enhances and improves the security of air cargo transportation by requiring airport operators, aircraft operators, foreign air carriers, and indirect air carriers to implement security measures in the air cargo supply chain as directed under the Aviation and Transportation Security Act. The final rule also amends the applicability of the requirement for a “twelve-five” security program for aircraft with a maximum certificated takeoff weight of 12,500 pounds or more to those aircraft with a maximum certificated takeoff weight of more than 12,500 pounds to conform to recent legislation. TSA inadvertently left out the amendatory instruction to remove the word “passenger” in § 1548.1. This document adds this amendatory change to part 1548.

DATES: Effective October 23, 2006.

FOR FURTHER INFORMATION CONTACT: Tamika McCree, Office of Transportation Sector Network Management (TSA-28), Transportation Security Administration, 601 South 12th Street, Arlington, VA 22202; (571-227-2632); tamika.mccree@dhs.gov.

SUPPLEMENTARY INFORMATION:

Background

On May 26, 2006, TSA published a final rule in a separate Part II of the Federal Register (71 FR 30478), revising various regulations to enhance and improve the security of air cargo transportation. TSA inadvertently left out the amendatory instruction to remove the word “passenger” in § 1548.1. This document adds the amendatory change as instruction number 31a.

List of Subjects

49 CFR part 1548 Air transportation, Reporting and recordkeeping requirements, Security measures.

Correcting Amendment

For the reasons set forth in this document and in the final rule on air cargo security requirements published on May 26, 2006 (71 FR 30478), the Transportation Security Administration amends part 1548 of Title 49, Code of Federal Regulations, as follows:

In rule FR Doc. 06-4800 published on May 26, 2006 (71 FR 30478) make the following correction: On page 30513 add the following amendment:

PART 1548—INDIRECT AIR CARRIER SECURITY

§ 1548.1 [Amended]

31a. In § 1548.1 introductory paragraph, remove the word “passenger”.

Issued in Arlington, Virginia, on June 2, 2006.
Mardi Ruth Thompson,
Deputy Chief Counsel for Regulations.

[FR Doc. E6-8852 Filed 6-7-06; 8:45 am]

BILLING CODE 9110-05-P